DEPARTMENT OF JUSTICE

Federal Bureau of Investigation

[OMB Number 1110-0039]

Agency Information Collection Activities; Proposed eCollection; eComments Requested; Revision of a Currently Approved Collection Bioterrorism Preparedness Act: Entity/Individual Information

AGENCY: Criminal Justice Information Services Division, Federal Bureau of Investigation (FBI), Department of Justice (DOJ).

ACTION: 30-Day notice.

SUMMARY: The Criminal Justice Information Services (CJIS) Division, Federal Bureau of Investigation (FBI), Department of Justice (DOJ), will be submitting the following information collection request to the Office of Management and Budget (OMB) for review and approval in accordance with the Paperwork Reduction Act of 1995.

DATES: Comments are encouraged and will be accepted for an additional 30 days until May 26, 2021.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Revision of a currently approved collection.

(2) Title of the Form/Collection: Federal Bureau of Investigation Bioterrorism Preparedness Act: Entity/Individual Information.

(3) Agency form number, if any, and the applicable component of the Department sponsoring the collection: Agency form number: FD-961 Sponsoring component: Criminal Justice Information Services Division, Federal Bureau of Investigation (FBI), Department of Justice (DOJ).

(4) Affected public who will be asked or required to respond, as well as a brief abstract: Primary: City, county, state, federal, individuals, business or other for profit, and not-for-profit institute. This collection is needed to receive names and other identifying information submitted by individuals requesting access to specific agents or toxins, and consult with appropriate official of the Department of Health and Human Services and the Department of Agriculture as to whether certain individuals specified in the provisions should be denied access to or granted limited access to specific agents.

(5) An estimate of the total number of respondents and the amount of time estimated for an average respondent to respond/reply: It is estimated that approximately 3,655 (FY 2020) respondents at 1 hour and 30 minutes for the FD-961 form.

(6) An estimate of the total public burden (in hours) associated with the collection: Given that approximately 5,483 hours, annual burden associated with this information collection.

If additional information is required contact: Melody Braswell, Department Clearance Officer, United States Department of Justice, Justice Management Division, Policy and Planning Staff, Two Constitution Square, 145 N Street NE, Suite 3E.405B, Washington, DC 20530.

Dated: April 21, 2021.
Melody Braswell,
Department Clearance Officer, PRA, U.S. Department of Justice.

[FR Doc. 2021-08583 Filed 4-23-21; 8:45 am]

BILLING CODE 4410-02-P